DEPARTMENT OF THE INTERIOR

National Park Service

[N6474; NPS-WASO-NAGPRA-NPS0040982; PPWOCRADN0-PCU00RP14.R50000]

Notice of Intended Repatriation: University of California, Berkeley, Berkeley, CA

AGENCY: National Park Service, Interior.

ACTION: Notice.

SUMMARY: In accordance with the Native American Graves Protection and Repatriation Act (NAGPRA), the University of California, Berkeley intends to repatriate certain cultural items that meet the definition of objects of cultural patrimony and that have a cultural affiliation with the Indian Tribes or Native Hawaiian organizations in this notice.

DATES: Repatriation of the cultural items in this notice may occur on or after October 10, 2025.

ADDRESSES: Send additional, written requests for repatriation of the cultural items in this notice to Alexandra Lucas, Repatriation Coordinator, Government and Community Relations, Office of the Chancellor. University of California, Berkeley, 200 California Hall, Berkeley, CA 94720, email nagpra-ucb@berkeley.edu.

SUPPLEMENTARY INFORMATION: This notice is published as part of the National Park Service's administrative responsibilities under NAGPRA. The determinations in this notice are the sole responsibility of the University of California, Berkeley, and additional information on the determinations in this notice, including the results of consultation, can be found in the summary or related records. The National Park Service is not responsible for the determinations in this notice.

Abstract of Information Available

A total of 10 objects of cultural patrimony have been requested for repatriation. The objects of cultural patrimony are from the following accessions: Acc. 341, Acc. 342, Acc. 346 and Acc. 352 in the Phoebe A. Hearst Museum of Anthropology at the University of California, Berkeley.

In 1908 Thomas T. Waterman, a student of Alfred Kroeber at University of California, Berkeley, removed eight baskets and two vessels from Cahuilla Reservation, Riverside County, California. Correspondence between Waterman and Kroeber detail the anthropological work being conducted by Waterman in the region, the removal of numerous cultural belongings, and their shipment to the University of California Museum of Anthropology (today the Phoebe A. Hearst Museum of Anthropology.)

Collections and collection spaces at the Phoebe A. Hearst Museum of Anthropology were treated with substances for preservation and pest control, some potentially hazardous. No records have been found to date at the Museum to indicate whether or not chemicals or natural substances were used prior to 1960.

Determinations

The University of California, Berkeley has determined that:

• The 10 lots of objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Cahuilla Band of Indians.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 10, 2025. If competing requests for repatriation are received, the University of California, Berkeley must determine the most appropriate requestor prior to repatriation. Requests for joint repatriation of the cultural items are considered a single request and not competing requests. The University of California, Berkeley is responsible for sending a copy of this notice to the Indian Tribes and Native Hawaiian organizations identified in this notice and to any other consulting parties.

Authority: Native American Graves Protection and Repatriation Act, 25 U.S.C. 3004 and the implementing regulations, 43 CFR 10.9.

Dated: August 21, 2025.
Melanie O'Brien,
Manager, National NAGPRA Program.

[FR Doc. 2025-17363 Filed 9-9-25; 8:45 am]

BILLING CODE 4312-52-P